DEPARTMENT OF LABOR

Employment and Training Administration

[TA-W-54,611, TA-W-54,611A, and TA-W-54,611B]

Jockey International, Inc., Mt. Sterling, KY, Jockey International, Inc., Carlisle, KY, Jockey International, Inc., Maysville, KY; Notice of Termination of Investigation

Pursuant to section 221 of the Trade Act of 1974, as amended, an investigation was initiated on March 29, 2004, in response to a petition filed by a company official on behalf of workers at Jockey International, Inc., Mt. Sterling, Kentucky (TA-W-54,611), Jockey International, Inc., Carlisle, Kentucky (TA-W-54,611A), and Jockey International, Inc., Maysville, Kentucky (TA-W-54,611B).

The petitioner has requested that the petition be withdrawn. Consequently, further investigation would serve no purpose and the investigation has been terminated.

Signed in Washington, DC this 14th day of April, 2004.
Linda G. Poole,
Certifying Officer, Division of Trade Adjustment Assistance.

[FR Doc. E4-1014 Filed 5-3-04; 8:45 am]

BILLING CODE 4510-13-P